ENVIRONMENTAL PROTECTION AGENCY

[FRL-9314-3]

Casmalia Disposal Site; Notice of Proposed CERCLA Administrative De Minimis Settlement

AGENCY: Environmental Protection Agency (EPA).

ACTION: Notice; correction.

SUMMARY: On April 4, 2011, a published notice of a proposed administrative de minimis settlement concerning the Casmalia Disposal Site in Santa Barbara County, California listed the name of one of the parties to the settlement as “EADS North America” rather than “EADS North America Holdings, Inc.”

FOR MORE INFORMATION CONTACT: Karen Goldberg at (415) 972-3951.

CORRECTION: In the Federal Register of April 4, 2011, in FR Doc. 2011-7904, 76 FR 18549, page 18550, column 1, correct the name as follows: Manhattan Beach Holding Corp. on its own behalf and on behalf of Fairchild Industries, Inc. and its successors, and on behalf of Fairchild Controls Corporation, Matra Aerospace, Inc., EADS North America, Inc., and EADS North America Holdings, Inc.

Dated: May 2, 2011.
Nancy Lindsay,
Acting Director, Superfund Division, Region IX.

[FR Doc. 2011-13877 Filed 6-3-11; 8:45 am]

BILLING CODE 6560-50-P